DEPARTMENT OF DEFENSE

Office of the Secretary

Meeting of the National Commission on the Structure of the Air Force

AGENCY: Director of Administration and Management (DA&M), DoD.

ACTION: Notice of Advisory Committee Meeting.

SUMMARY: Under the provisions of the Federal Advisory Committee Act (FACA) of 1972 (5 U.S.C., Appendix, as amended), the Government in the Sunshine Act of 1976 (5 U.S.C. 552b, as amended), and 41 CFR 102-3.150, the Department of Defense (DoD) announces that the following Federal advisory committee meetings of the National Commission on the Structure of the Air Force (“the Commission”), to include a closed session, will take place.

DATES: Date of the Closed Meeting, including Hearing and Commission Discussion: June 3, 2013, from 7:15 a.m. to 5:30 p.m. Date of the Open Meeting, including Hearing and Commission Discussion: June 4, 2013, from 8:30 a.m. to 5:30 p.m.

ADDRESSES: Address of Closed Meeting: 2521 South Clark Street, Suite 525, Crystal City, VA 22202. Address of Open Meeting: Rayburn House Office Building, Room 2360, at Independence Avenue and South Capitol Street Washington, DC 20003. Please use the main entrance on South Capitol Street.

FOR FURTHER INFORMATION CONTACT: Mrs. Marcia Moore, Designated Federal Officer, National Commission on the Structure of the Air Force, 1950 Defense Pentagon, Room 3A874, Washington, DC 20301-1950, Email: dfoafstrucomm@osd.mil. Desk (703) 571-7057. Facsimile (703) 692-5625.

SUPPLEMENTARY INFORMATION:

Purpose of Meetings: The members of the Commission will hear testimony from individual witnesses and convene immediately after their hearings to discuss the hearings.

Agenda

June 3, 2013—Closed Hearing: DoD military leaders will speak at the closed hearing on June 3, 2013 and have been asked to address national security matters pertaining to the U.S. Air Force, the Air National Guard, and the U.S. Air Force Reserve that affected the capabilities and force structure of the U.S. Air Force. DoD speakers will also provide classified information on the roles, missions and capabilities of the various DoD components and how they contribute to the national defense strategy, the integration of force requirements, and DoD's strategies and capabilities to address conflicts and threats. Invited, but not confirmed, speakers include the Secretary and Chief of Staff of the U.S. Air Force, the Director of the Air National Guard, the Chief of the Air Force Reserve, and representatives from the Joint Chiefs of Staff.

June 4, 2013—Public Hearing: Congressional representatives, DoD leaders, private citizens and professional military associations are invited to speak at the public hearing on June 4, 2013 and are asked to address matters pertaining to the U.S. Air Force, the Air National Guard, and the U.S. Air Force Reserve such as their common and unique interests, roles, history, organizational structure, and operational factors influencing decision-making. These witnesses are also asked to address the evaluation factors under consideration by the Commission for a U.S. Air Force structure that—(A) meets current and anticipated requirements of the combatant commands; (B) achieves an appropriate balance between the regular and reserve components of the Air Force, taking advantage of the unique strengths and capabilities of each; (C) ensures that the regular and reserve components of the Air Force have the capacity needed to support current and anticipated homeland defense and disaster assistance missions in the United States; (D) provides for sufficient numbers of regular members of the Air Force to provide a base of trained personnel from which the personnel of the reserve components of the Air Force could be recruited; (E) maintains a peacetime rotation force to support operational tempo goals of 1:2 for regular members of the Air Forces and 1:5 for members of the reserve components of the Air Force; and (F) maximizes and appropriately balances affordability, efficiency, effectiveness, capability, and readiness. Individual Commissioners will also report their activities, information collection, and analyses to the full Commission.

Meeting Accessibility: In accordance with section 10(d) of the FACA, 5 U.S.C. 552b, and 41 CFR 102-3.155, the DoD has determined that the meeting scheduled for June 3, 2013 will be closed to the public. Specifically, the Director of Administration and Management, with the coordination of the DoD FACA Attorney, has determined in writing that this portion of the meeting will be closed to the public because it will discuss matters covered by 5 U.S.C. 552b(c)(1).

Pursuant to 5 U.S.C. 552b, as amended, and 41 CFR 102-3.140 through 102-3.165, and the availability of space, the meeting scheduled for June 4, 2013 at the Rayburn House Office Building is open to the public. Seating is limited and pre-registration is strongly encouraged for all attendees. Media representatives are also encouraged to register. Members of the media must comply with the rules of the House of Representatives regarding photography and video filming in the Rayburn House Office Building. The closest public parking facility is located at the Union Station train depot. Visitors to the Rayburn House Office Building are screened by a magnetometer, and all items that are permitted inside the building are screened by an x-ray device. Visitors should keep their belongings with them at all times.

The following items are strictly prohibited in the Rayburn House Office Building:

Liquid, including water;

Food or beverage of any kind, including fruit and unopened packaged food;

Aerosol containers;

Non-aerosol sprays (Prescriptions for medical needs are permitted.);

Any pointed object, e.g., knitting needles and letter openers (Pens and pencils are permitted.);

Any bag larger than 18″ wide x 14″ high x 8.5″ deep;

Electric stun guns, martial arts weapons or devices;

Guns, replica guns, ammunition and fireworks;

Knives of any size;

Mace and pepper spray;

Razors and box cutters.

Written Comments: Pursuant to 41 CFR 102-3.105(j) and 102-3.140 and section 10(a)(3) of the Federal Advisory Committee Act, the public or interested organizations may submit written comments to the Commission in response to the stated agenda of the open and/or closed meeting or the Commission's mission. The Designated Federal Officer (DFO) will review all submitted written statements. Written comments should be submitted to Mrs. Marcia Moore, DFO, via facsimile or electronic mail, the preferred modes of submission. Each page of the comment must include the author's name, title or affiliation, address, and daytime phone number. Mailed written comments will be given to the Commission before or after the meeting if postmarked by May 31, 2013. All contact information may be found in FOR FURTHER INFORMATION CONTACT.

Oral Comments: In addition to written statements, one hour will be reserved for individuals or interested groups to address the Commission on June 4, 2013. Oral commenters must summarize their oral statement in writing and submit with their registration. The Commission's staff will assign time to oral commenters at the meeting, for no more than 5 minutes each. While requests to make an oral presentation to the Commission will be honored on a first come, first served basis, other opportunities for oral comments will be provided at future meetings.

Registration: Individuals who wish to attend the public hearing and meeting on Tuesday, June 4, 2013 are encouraged to register for the event with the Designated Federal Officer using the electronic mail and facsimile contact information found in the FOR FURTHER INFORMATION CONTACT section. The communication should include the registrant's full name, title, affiliation or employer, email address, day time phone number. If applicable, include written comments and a request to speak during the oral comment session. (Oral comment requests must be accompanied by a summary of your presentation.) Registrations and written comments must be typed.

Due to difficulties beyond the control of the Commission or its DFO, this Federal Register notice for the June 3-4, 2013 meetings as required by 41 CFR 102-3.150(a) was not met. Accordingly, the Advisory Committee Management Officer for the DoD, pursuant to 41 CFR 102-3.150(b), waives the 15-calendar day notification requirement.

Background

The National Commission on the Structure of the Air Force was established by the National Defense Authorization Act for Fiscal Year 2013 (Pub. L. 112-239). The Department of Defense sponsor for the Commission is the Director of Administration and Management, Mr. Michael L. Rhodes. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

Dated: May 28, 2013.
Aaron Siegel,
Alternate OSD Federal Register Liaison Officer, Department of Defense.

[FR Doc. 2013-12951 Filed 5-30-13; 8:45 am]

BILLING CODE 5001-06-P